DEPARTMENT OF HEALTH AND HUMAN SERVICES

Centers for Disease Control and Prevention

HIV Prevention, Care and Support, and Confidential Counseling and Testing in Lagos State and Rivers State in the Republic of Nigeria, as Part of the President's Emergency Plan for AIDS Relief

Announcement Type: New.

Funding Opportunity Number: CDC-RFA-AA187.

Catalog of Federal Domestic Assistance Number: 93.067.

Key Dates: Application Deadline: September 12, 2005.

I. Funding Opportunity Description

Authority: This program is authorized under Sections 301(a) and 307 of the Public Health Service Act [42 U.S.C. Sections 241 and 242l], as amended, and under Public Law 108-25 (United States Leadership Against HIV/AIDS, Tuberculosis and Malaria Act of 2003) [U.S.C. 7601].

Background: President Bush's Emergency Plan for AIDS Relief has called for immediate, comprehensive and evidence-based action to turn the tide of global HIV/AIDS. The initiative aims to treat more than two million HIV-infected people with effective combination anti-retroviral therapy by 2008; care for ten million HIV-infected and affected persons, including those orphaned by HIV/AIDS, by 2008; and prevent seven million infections by 2010, with a focus on 15 priority countries, including 12 in sub-Saharan Africa. The five-year strategy for the Emergency Plan is available at the following Internet address: http://www.state.gov/s/gac/rl/or/c11652.htm.

Over the same time period, as part of a collective national response, the Emergency Plan goals specific to Nigeria are to treat at least 350,000 HIV-infected individuals and care for 1,750,000 HIV-affected individuals, including orphans.

Purpose

The purpose of the program is to provide HIV prevention, care and support, and confidential counseling and testing to persons at increased risk of HIV infection in Lagos State and Rivers State, Nigeria.

The Global AIDS Program (GAP) within the U.S. Department of Health and Human Services (HHS) has established field operations to support national HIV/AIDS control programs in 25 countries. HHS/GAP exists to help prevent HIV infection, improve care and support, and build capacity to address the global AIDS pandemic. HHS/GAP provides financial and technical assistance through partnerships with governments, community- and faith-based organizations, the private sector, and national and international entities working in the 25 resource-constrained countries. HHS/GAP works with the Centers for Disease Control and Prevention (CDC), Health Resources and Services Administration (HRSA), the National Institutes of Health (NIH), within HHS; the United States Agency for International Development (USAID); the Peace Corps; the U.S. Departments of State, Labor and Defense, and other agencies and organizations. These efforts complement multilateral efforts, including the Joint United Nations Programme on HIV/AIDS (UNAIDS); the Global Fund to Fight HIV, Tuberculosis and Malaria; World Bank funding; and private-sector donation programs.

Under the leadership of the U.S. Global AIDS Coordinator, as part of the President's Emergency Plan, the U.S. Department of Health and Human Services (HHS) works with host countries and other key partners to assess the needs of each country and design a customized program of assistance that fits within the host nation's strategic plan.

HHS focuses on two or three major program areas in each country. Goals and priorities include the following:

• Achieving primary prevention of HIV infection through activities such as expanding confidential counseling and testing programs, building programs to reduce mother-to-child transmission, and strengthening programs to reduce transmission via blood transfusion and medical injections.

• Improving the care and treatment of HIV/AIDS, sexually transmitted diseases (STDs) and related opportunistic infections by improving STD management; enhancing care and treatment of opportunistic infections, including tuberculosis (TB); and initiating programs to provide anti-retroviral therapy (ART).

• Strengthening the capacity of countries to collect and use surveillance data and manage national HIV/AIDS programs by expanding HIV/STD/TB surveillance programs and strengthening laboratory support for surveillance, diagnosis, treatment, disease-monitoring and HIV screening for blood safety.

The U.S. Government seeks to reduce the impact of HIV/AIDS in specific countries within sub-Saharan Africa, Asia, and the Americas through the President's Emergency Plan for AIDS Relief (The Emergency Plan). Through this new initiative, HHS/GAP will continue to work with host countries to strengthen capacity and expand activities in the areas of (1) primary HIV prevention; (2) HIV care, support, and treatment; and (3) capacity and infrastructure development, especially for surveillance and training. Targeted countries represent those with the most severe epidemics where the potential for impact is greatest and where U.S. Government agencies are already active. Nigeria is one of these targeted countries.

To carry out its activities in these countries, HHS is working in a collaborative manner with national governments and other agencies to develop programs of assistance to address the HIV/AIDS epidemic. HHS” program of assistance to Nigeria focuses on several areas of national priority, including scaling up activities and funding for HIV prevention, care, and treatment; improving the national blood safety program; HIV sentinel surveillance; and supporting the National AIDS and Sexually Transmitted Disease (STD) Control Program.

Measurable outcomes of the program will be in alignment with the numerical goals of the President's Emergency Plan for AIDS Relief and one (or more) of the following performance goal(s) for the CDC National Center for HIV, STD, and TB Prevention (NCHSTP), within HHS: By 2010, work with other countries, international organizations, the U.S. Department of State, USAID, and other partners to achieve the United Nations General Assembly Special Session on HIV/AIDS goal of reducing prevalence among young persons 15 to 24 years of age; reducing HIV transmission; and improving care of persons living with HIV. They also will contribute to the global goals of the Emergency Plan which are as follows: within five years treat two million HIV-infected persons with effective combination anti-retroviral therapy (ART); prevent seven million new HIV infections; and care for ten million HIV-infected and affected persons, including those orphaned and left vulnerable by HIV/AIDS. Some of the specific measurable outputs from this program will be the number of young people who receive HIV behavior-change interventions through the program; the number of persons trained to provide HIV behavior change services for youth; the number of community leaders, religious leaders, and parents involved with the program; the number of young people who receive confidential counseling and testing and care and support through the program; and the documentation of the impact of the program on reducing the risk of infection in youth (up to 30 years of age) in Nigeria.

This announcement is only for non-research activities supported by HHS, including CDC. If an applicant proposes research activities, HHS will not review the application. For the definition of “research,” please see the HHS/CDC Web site at the following Internet address: http://www.cdc.gov/od/ads/opspoll1.htm.

Activities

The recipient of these funds is responsible for activities in multiple program areas designed to target underserved populations in Nigeria. Either the awardee will implement activities directly or will implement them through its subgrantees and/or subcontractors; the awardee will retain overall financial and programmatic management under the oversight of HHS/CDC and the strategic direction of the Office of the U.S. Global AIDS Coordinator. The awardee must show a measurable, progressive reinforcement of the capacity of indigenous organizations and local communities to respond to the national HIV epidemic, as well as progress towards the sustainability of activities.

Applicants should describe activities in detail as part of a four-year action plan (U.S. Government Fiscal Years 2005-2008 inclusive) that reflects the policies and goals outlined in the five-year strategy for the President's Emergency Plan.

The grantee will produce an annual operational plan in the context of this four-year plan, which the U.S. Government Emergency Plan team on the ground in Nigeria will review as part of the annual Emergency Plan for AIDS Relief Country Operational Plan review and approval process managed by the Office of the U.S. Global AIDS Coordinator. The grantee may work on some of the activities listed below in the first year and in subsequent years, and then progressively add others from the list to achieve all of the Emergency Plan performance goals, as cited in the previous section. HHS/CDC, under the guidance of the U.S. Global AIDS Coordinator, will approve funds for activities on an annual basis, based on documented performance toward achieving Emergency Plan goals, as part of the annual Emergency Plan for AIDS Relief Country Operational Plan review and approval process.

Awardee activities for this program are as follows:

1. Provide HIV prevention interventions in local languages to out-of-school youth (up to 30 years of age) who are engaged or could become engaged in high-risk behaviors ¹ in Lagos and Rivers State, particularly at motor parks. Awardees may not implement condom social marketing without also promoting abstinence and faithfulness behavior-change interventions.

¹ Behaviors that increase risk for HIV transmission include engaging in casual sexual encounters, engaging in sex in exchange for money or favors, having sex with an HIV-positive partner or one whose status is unknown, using drugs or abusing alcohol in the context of sexual interactions, and using intravenous drugs. Women, even if faithful themselves, can still be at risk of becoming infected by their spouse, regular male partner, or someone using force against them. Other high-risk persons or groups include men who have sex with men and workers who are employed away from home. Awardees may not implement condom social marketing without also implementing abstinence and faithfulness behavior-change interventions.

2. Implement basic care and support in Lagos State, particularly at motor parks.

3. Strengthen and expand existing linkages with private and public health facilities for confidential screening/testing of HIV and related diseases.

4. Provide confidential counseling and testing in Lagos State, particularly at motor parks. Strengthen and expand existing linkages with private and public health facilities for confidential screening/testing of HIV and related diseases.

5. Collect and analyze data on all of these services.

Awardee should ensure that all of the above activities integrate into the national HIV/AIDS strategy.

Interventions should promote the “ABC model.” Methods and strategies should emphasize abstinence for youth and other unmarried persons, mutual faithfulness and partner reduction for sexually active adults, and correct and consistent use of condoms by those populations who are engaged in high-risk behaviors. Behaviors that increase risk for HIV transmission include engaging in casual sexual encounters, engaging in sex in exchange for money or favors, having sex with an HIV-positive partner or one whose status is unknown, using drugs or abusing alcohol in the context of sexual interactions, and using intravenous drugs. Women, even if faithful themselves, can still be at risk of becoming infected by their spouse, regular male partner, or someone using force against them. Other high-risk persons or groups include men who have sex with men and workers who are employed away from home. Awardees may not implement condom social marketing without also implementing the abstinence and faithfulness behavior-change interventions outlined in the preceding paragraph.

Based on its competitive advantage and proven field experience, the winning applicant will undertake a broad range of activities to meet the numerical Emergency Plan targets outlined in this announcement.

Administration

Awardees must comply with all HHS management requirements for meeting participation and progress and financial reporting for this cooperative agreement (See HHS Activities and Reporting sections below for details), and comply with all policy directives established by the Office of the U.S. Global AIDS Coordinator.

In a cooperative agreement, HHS staff is substantially involved in the program activities, above and beyond routine grant monitoring.

HHS/CDC Activities for this program are as follows:

1. Organize an orientation meeting with the grantee to brief it on applicable U.S. Government, HHS, and Emergency Plan expectations, regulations and key management requirements, as well as report formats and contents. The orientation could include meetings with staff from HHS agencies and the Office of the U.S. Global AIDS Coordinator.

2. Review and approve the process used by the grantee to select key personnel and/or post-award subcontractors and/or subgrantees to be involved in the activities performed under this agreement, as part of the Emergency Plan for AIDS Relief Country Operational Plan review and approval process, managed by the Office of the U.S. Global AIDS Coordinator.

3. Review and approve grantee's annual work plan and detailed budget, as part of the Emergency Plan for AIDS Relief Country Operational Plan review and approval process, managed by the Office of the U.S. Global AIDS Coordinator.

4. Review and approve grantee's monitoring and evaluation plan, including for compliance with the strategic information guidance established by the Office of the U.S. Global AIDS Coordinator.

5. Meet on a monthly basis with grantee to assess monthly expenditures in relation to approved work plan and modify plans as necessary.

6. Meet on a quarterly basis with grantee to assess quarterly technical and financial progress reports and modify plans as necessary.

7. Meet on an annual basis with grantee to review annual progress report for each U.S. Government Fiscal Year, and to review annual work plans and budgets for subsequent year, as part of the Emergency Plan for AIDS Relief review and approval process for Country Operational Plans, managed by the Office of the U.S. Global AIDS Coordinator.

8. Provide technical assistance, as mutually agreed upon, and revise annually during validation of the first and subsequent annual work plans. This could include expert technical assistance and targeted training activities in specialized areas, such as strategic information, project management, confidential counseling and testing, palliative care, treatment literacy, and adult learning techniques.

9. Provide in-country administrative support to help grantee meet U.S. Government financial and reporting requirements.

10. Provide guidance on selection of focus populations to ensure most at-risk populations are reached. In partnership with the grantee, HHS will participate in field activities to identify appropriate populations, which are most at-risk, and conduct needs assessments. The grantee will establish baseline information through appropriate formative processes, in collaboration with HHS.

11. Provide technical assistance on the selection of behavior or prevention interventions, approaches to the provision of care and support, and approaches to confidential counseling and testing. HHS/CDC, in collaboration with the grantee, will conduct focus group discussions and in-depth interviews of potential beneficiary communities to determine ideal points of service, information, education and communication messages and channels.

12. Assist in the coordination of core interventions with other providers. Based on information and data gathered from the Nigerian federal and state governments and interagency coordination meetings, HHS/CDC will assist grantee to link its project activities to relevant projects implemented by other stakeholders as a way to leverage funding and inputs, which can include lessons learned and best practices.

13. Assist in the evaluation and assessment of interventions funded by this program. The grantee will negotiate project goals and objectives, outputs and outcomes, and appropriate time-lines for project activities, mid-term and end of project reviews and evaluation with HHS/CDC.

14. Monitor progress in achieving the purpose of this program, as well as project objectives. In collaboration with grantee, HHS/CDC will conduct field trips to supervise and monitor project progress and ensure judicious use of U.S. Government resources.

Please note: Either HHS staff or staff from organizations that have successfully competed for funding under a separate HHS contract, cooperative agreement or grant will provide technical assistance and training.

II. Award Information

Type of Award: Cooperative Agreement.

HHS involvement in this program is listed in the Activities Section above.

Fiscal Year Funds: 2005.

Approximate Total Funding: $1,400,000. (This amount is an estimate, and is subject to availability of funds.)

Approximate Number of Awards: One.

Approximate Average Award: $350,000 (This amount is for the first 12-month budget period, and includes direct costs.

Floor of Award Range: None.

Ceiling of Award Range: $350,000. (This ceiling is for the first 12-month budget period.)

Anticipated Award Date: September 23, 2005.

Budget Period Length: 12 months.

Project Period Length: Four years.

Throughout the project period, HHS’ commitment to continuation of awards will be conditioned on the availability of funds, evidence of satisfactory progress by the recipient (as documented in required reports), and the determination that continued funding is in the best interest of the Federal Government, through the Emergency Plan for AIDS Relief review and approval process for Country Operational Plans, managed by the Office of the U.S. Global AIDS Coordinator.

III. Eligibility Information

III.1. Eligible Applicants

Public and private non-profit organizations and governments and their agencies may submit applications, such as:

• Public, non-profit organizations.

• Private, non-profit organizations.

• Small, minority-owned, and women-owned businesses.

• Universities.

• Colleges.

• Hospitals.

• Community-based organizations.

• Faith-based organizations.

We are limiting competition for this grant to the types of organizations listed above because of the uniqueness of the specific activities for this project and the location where the majority of the work will be performed, in multiple and diverse geographic locations throughout Nigeria. The types of organizations listed above have direct experience with performing this type of activity. We will limit competition to organizations that possess the following:

• A proven track record in successfully managing effective and sustainable health programs in Nigeria.

• Experience and ability in efficiently implementing programs to identify and monitor the work of sub-grantees and technical consultants in Nigeria.

• Extensive knowledge of the Nigerian health structure from the national to the district levels.

• Knowledge and working-level contacts and relationships with networks of Governmental Ministries at the federal and state levels.

• Credentials that allow the organization to work legally in Nigeria, and an existing office in one or more critical locations in Nigeria.

• Staff with appropriate local language skills.

III.2. Cost-Sharing or Matching Funds

Matching funds are not required for this program. Although matching funds are not required, preference will go to organizations that can leverage additional funds to contribute to program goals.

III.3. Other

If applicants request a funding amount greater than the ceiling of the award range, HHS/CDC will consider the application non-responsive, and it will not enter into the review process. We will notify you that your application did not meet the submission requirements.

Special Requirements

If your application is incomplete or non-responsive to the special requirements listed in this section, it will not enter into the review process. We will notify you that your application did not meet submission requirements.

• HHS/CDC will consider late applications non-responsive. See section “IV.3. Submission Dates and Times” for more information on deadlines.

Note: Title 2 of the United States Code Section 1611 states that an organization described in Section 501(c)(4) of the Internal Revenue Code that engages in lobbying activities is not eligible to receive Federal funds constituting an award, grant, or loan.

IV. Application and Submission Information

IV.1. Address To Request Application Package

To apply for this funding opportunity use application form PHS 5161-1.

HHS strongly encourages you to submit the application electronically using the forms and instructions posted for this announcement on http://www.grants.gov.

Application forms and instructions are available on the HHS/CDC Web site, at the following Internet address: http://www.cdc.gov/od/pgo/forminfo.htm.

If you do not have access to the Internet, or if you have difficulty accessing the forms on-line, you may contact the HHS/CDC Procurement and Grants Office Technical Information Management Section (PGO-TIM) staff at: (770) 488-2700. We can mail application forms to you.

IV.2. Content and Form of Submission

Application: You must submit a project narrative with your application forms. You must submit the narrative in the following format:

• Maximum number of pages: 20 pages. If your narrative exceeds the page limit, we will review only the pages within the page limit.

• Font size: 12 point unreduced.

• Double spaced.

• Paper size: 8.5 by 11 inches.

• Page margin size: One inch.

• Printed only on one side of page.

• Held together only by rubber bands or metal clips; not bound in any other way.

• All pages should be numbered sequentially from page one (Application Face Page) to the end of the application, including charts, figures, tables, and appendices.

• Must be submitted in English.

Your narrative should address activities to be conducted over the entire project period, and must include the following items in the order listed:

• Need for Services.

Describe the proposed populations for each of the services to be provided (prevention, care and support, and confidential counseling and testing). This should include demographics; estimated HIV/AIDS or STD prevalence (if data is available, provide data source); and services currently being provided and by which organizations.

• Experience in Providing HIV Services (prevention, care and support, and confidential counseling and testing).

Describe how your organization has provided these services in Lagos State (for Rivers State, describe experience with prevention services). Also describe how your organization has worked with other organizations providing HIV services in Lagos and Rivers State.

• Plan to Provide Prevention, Care and Support, and Confidential Counseling and Testing Services.

For each service, specify numbers to be served, recruitment strategies, services to be provided, and coordination with existing services. List goals and objectives in this section. Goals are broad statements of programmatic intent. Objectives should be specific (who and how many) and measurable, and describe what is expected (e.g., who will be tested). Provide letters of support from the State or Federal Ministry of Health, the National Action Committee on AIDS, or from other organizations providing HIV services in Lagos State indicating previous collaborative relationships and/or support for this program.

• Management and Personnel.

Describe the qualifications and experience for management and technical staff who will work on this project. Include a description of responsibilities for each person. Indicate whether proposed persons are available to work on this project and if not, describe plans to recruit needed staff.

• Program Requirements.

Program requirements may include relevant national guidelines, training curricula and modules, etc.

• Plan to Evaluate Programmatic Efforts and Administrative and Accounting Plan.

Include a description of how you will measure services provided and the manner in which they were provided (i.e., quality assurance). Describe your plan to manage the resources of this program and monitor and audit expenditures.

• Budget (not included in page limit).

Your budget should highlight any supplies mentioned in the Program Requirements and any proposed capital expenditure. Guidance for completing your budget can be found on the United States Government Web site at the following address: http://www.cdc.gov/od/pgo/funding/budgetguide.htm.

You may include additional information in the application appendices. The appendices will not count toward the narrative page limit. The additional information includes but is not limited to the following:

• Organizational Charts.

• Curriculum Vitas or Resumes.

• Letters of Support.

The budget justification will not count in the narrative page limit.

Although the narrative addresses activities for the entire project, the applicant should provide a detailed budget only for the first year of activities, while addressing budgetary plans for subsequent years.

You must have a Dun and Bradstreet Data Universal Numbering System (DUNS) number to apply for a grant or cooperative agreement from the Federal government. The DUNS number is a nine-digit identification number, which uniquely identifies business entities. Obtaining a DUNS number is easy, and there is no charge. To obtain a DUNS number, access http://www.dunandbradstreet.com or call 1-866-705-5711.

For more information, see the HHS/CDC Web site at: http://www.cdc.gov/od/pgo/funding/grantmain.htm. If your application form does not have a DUNS number field, please write your DUNS number at the top of the first page of your application, and/or include your DUNS number in your application cover letter.

Additional requirements that could require you to submit additional documentation with your application are listed in section “VI.2. Administrative and National Policy Requirements.”

IV.3. Submission Dates and Times

Application Deadline Date: September 12, 2005.

Explanation of Deadlines: Applications must be received in the HHS/CDC Procurement and Grants Office by 4 p.m. eastern time on the deadline date.

You may submit your application electronically at http://www.grants.gov. We consider applications completed on-line through Grants.gov as formally submitted when the applicant organization's Authorizing Official electronically submits the application to http://www.grants.gov. We will consider electronic applications as having met the deadline if the applicant organization's Authorizing Official has submitted the application electronically to Grants.gov on or before the deadline date and time.

If you submit your application electronically through Grants.gov, your application will be electronically time/date stamped, which will serve as receipt of submission. You will receive an e-mail notice of receipt when HHS/CDC receives the application.

If you submit your application by the United States Postal Service or commercial delivery service, you must ensure that the carrier will be able to guarantee delivery of the application by the closing date and time. If HHS/CDC receives your application after closing because: (1) Carrier error, when the carrier accepted the package with a guarantee for delivery by the closing date and time; or (2) significant weather delays or natural disasters, you will have the opportunity to submit documentation of the carrier's guarantee. If the documentation verifies a carrier problem, HHS/CDC will consider the application as received by the deadline.

If you submit a hard copy application, HHS/CDC will not notify you upon receipt of your application. If you have a question about the receipt of your application, first contact your courier. If you still have a question, contact the PGO-TIM staff at: (770) 488-2700. Before calling, please wait two to three days after the application deadline. This will allow time for us to process and log submissions.

This announcement is the definitive guide on application content, submission address and deadline. It supersedes information provided in the application instructions. If your application does not meet the deadline above, it will not be eligible for review, and we will discard it. We will notify you that your application did not meet the submission requirements.

IV.4. Intergovernmental Review of Applications

Executive Order 12372 does not apply to this program.

IV.5. Funding Restrictions

Restrictions, which you must take into account while writing your budget, are as follows:

• Funds may not be used for research.

• Reimbursement of pre-award costs is not allowed.

• Antiretroviral Drugs—The purchase of antiretrovirals, reagents, and laboratory equipment for antiretroviral treatment projects require pre-approval from HHS/CDC GAP Nigeria.

• Needle Exchange—No funds appropriated under this Act shall be used to carry out any program of distributing sterile needles or syringes for the hypodermic injection of any illegal drug.

• Funds may be spent for reasonable program purposes, including personnel, training, travel, supplies and services. Equipment may be purchased and renovations completed if deemed necessary to accomplish program objectives; however, prior approval by HHS/CDC officials must be requested in writing.

• All requests for funds contained in the budget shall be stated in U.S. dollars. Once an award is made, HHS/CDC will not compensate foreign grantees for currency exchange fluctuations through the issuance of supplemental awards.

• The costs that are generally allowable in grants to domestic organizations are allowable to foreign institutions and international organizations, with the following exception: With the exception of the American University, Beirut, and the World Health Organization, Indirect Costs will not be paid (either directly or through sub-award) to organizations located outside the territorial limits of the United States or to international organization regardless of their location.

• The applicant may contract with other organizations under this program; however, the applicant must perform a substantial portion of the activities, (including program management and operations, and delivery of prevention and care services for which funds are required).

• You must obtain an annual audit of these HHS/CDC funds (program-specific audit) by a U.S.-based audit firm with international branches and current licensure/ authority in-country, and in accordance with International Accounting Standards or equivalent standard(s) approved in writing by HHS/CDC.

• A fiscal Recipient Capability Assessment may be required, prior to or post award, to review the applicant's business management and fiscal capabilities regarding the handling of U.S. Federal funds.

Prostitution and Related Activities

The U.S. Government is opposed to prostitution and related activities, which are inherently harmful and dehumanizing, and contribute to the phenomenon of trafficking in persons.

Any entity that receives, directly or indirectly, U.S. Government funds in connection with this document (“recipient”) cannot use such U.S. Government funds to promote or advocate the legalization or practice of prostitution or sex trafficking. Nothing in the preceding sentence shall be construed to preclude the provision to individuals of palliative care, treatment, or post-exposure pharmaceutical prophylaxis, and necessary pharmaceuticals and commodities, including test kits, condoms, and, when proven effective, microbicides.

A recipient that is otherwise eligible to receive funds in connection with this document to prevent, treat, or monitor HIV/AIDS shall not be required to endorse or utilize a multisectoral approach to combating HIV/AIDS, or to endorse, utilize, or participate in a prevention method or treatment program to which the recipient has a religious or moral objection. Any information provided by recipients about the use of condoms as part of projects or activities that are funded in connection with this document shall be medically accurate and shall include the public health benefits and failure rates of such use.

In addition, any recipient must have a policy explicitly opposing prostitution and sex trafficking. The preceding sentence shall not apply to any “exempt organizations” (defined as the Global Fund to Fight AIDS, Tuberculosis and Malaria, the World Health Organization and its six Regional Offices, the International AIDS Vaccine Initiative or to any United Nations agency).

The following definition applies for purposes of this clause:

• Sex trafficking means the recruitment, harboring, transportation, provision, or obtaining of a person for the purpose of a commercial sex act. 22 U.S.C. 7102(9).

All recipients must insert provisions implementing the applicable parts of this section, “Prostitution and Related Activities,” in all subagreements under this award. These provisions must be express terms and conditions of the subagreement, must acknowledge that compliance with this section, “Prostitution and Related Activities,” is a prerequisite to receipt and expenditure of U.S. Government funds in connection with this document, and must acknowledge that any violation of the provisions shall be grounds for unilateral termination of the agreement prior to the end of its term. Recipients must agree that HHS may, at any reasonable time, inspect the documents and materials maintained or prepared by the recipient in the usual course of its operations that relate to the organization's compliance with this section, “Prostitution and Related Activities.”

All prime recipients that receive U.S. Government funds (“prime recipients”) in connection with this document must certify compliance prior to actual receipt of such funds in a written statement that makes reference to this document (e.g., “[Prime recipient's name] certifies compliance with the section, ‘Prostitution and Related Activities.’) addressed to the agency's grants officer. Such certifications by prime recipients are prerequisites to the payment of any U.S. Government funds in connection with this document.

Recipients' compliance with this section, “Prostitution and Related Activities,” is an express term and condition of receiving U.S. Government funds in connection with this document, and any violation of it shall be grounds for unilateral termination by HHS of the agreement with HHS in connection with this document prior to the end of its term. The recipient shall refund to HHS the entire amount furnished in connection with this document in the event HHS determines the recipient has not complied with this section, “Prostitution and Related Activities.”

Funds May Be Used for

• Hiring of staff needed to operate the program and the various activities sponsored by the program.

• Coordination of the program.

• Purchase of supplies, equipment, vehicles, and commodities needed to provide the interventions, acquired in a transparent and competitive process.

• Renovations to clinics and community facilities as needed; the awardee shall make the selection of any contractors to perform such renovations in a transparent and competitive process.

• Support for interventions to reduce socio-economic vulnerability of young people, especially young girls, orphans, and other at-risk youth.

• Conduct assessments to document the impact of various interventions.

You may find guidance for completing the budget on the HHS/CDC Web site, at the following Internet address: http://www.cdc.gov/od/pgo/funding/budgetguide.htm.

IV.6. Other Submission Requirements

Application Submission Address

HHS/CDC strongly encourages you to submit electronically at http://www.Grants.gov. You will be able to download a copy of the application package from http://www.grants.gov, complete it off-line, and then upload and submit the application via the Grants.gov Web site. We will not accept e-mail submissions. If you are having technical difficulties in Grants.gov, you may reach them by e-mail at support@grants.gov or by phone at 1-800-518-4726 (1-800-518-GRANTS). The Customer Support Center is open from 7 a.m. to 9 p.m. eastern time, Monday through Friday.

HHS/CDC recommends that you submit your application to Grants.gov early enough to resolve any unanticipated difficulties prior to the deadline. You may also submit back-up paper submission of the application. We must receive any such paper submission in accordance with the requirements for timely submission detailed in Section IV.3. of the grant announcement. You must clearly mark the paper submission: “BACK-UP FOR ELECTRONIC SUBMISSION.”

The paper submission must conform to all requirements for non-electronic submissions. If we receive both electronic and back-up paper submissions by the deadline, we will consider the electronic version the official submission.

We strongly recommend that the applicant submit the grant application using Microsoft Office products (e.g., Microsoft Word, Microsoft Excel, etc.). If you do not have access to Microsoft Office products, you may submit a PDF file. You may find directions for creating PDF files on the Grants.gov Web site. Use of file formats other than Microsoft Office or PDF could make your file unreadable for our staff; or

Submit the original and two hard copies of your application by mail or express delivery service to the following address: Technical Information Management—AA187, CDC Procurement and Grants Office, U.S. Department of Health and Human Services, 2920 Brandywine Road, Atlanta, GA 30341.

V. Application Review Information

V.1. Criteria

Applicants must provide measures of effectiveness that will demonstrate the accomplishment of the various identified objectives of the cooperative agreement. Measures of effectiveness must relate to the performance goals stated in the “Purpose” section of this announcement. Measures must be objective and quantitative, and must measure the intended outcome. Applicants must submit these measures of effectiveness with the application, and they will be an element of evaluation.

We will evaluate your application against the following criteria:

1. Approach to Providing Services (30 points).

Does the applicant describe strategies that are pertinent and match those identified in the five-year strategy of the President's Emergency Plan and activities that are evidence-based, realistic, achievable, measurable and culturally appropriate in Nigeria to achieving the goals of the Emergency Plan? Does the applicant provide goals and objectives? Are the objectives specific and measurable? Do they address key indicators (e.g., number of health care workers trained, number of persons provided prevention and care)? Does the applicant describe how it will recruit members of the target population for prevention and care? Is the quality of the plan for each of the interventions adequate? To what extent does the applicant propose to work with other organizations? Does the applicant provide letters of support?

2. Experience in Providing HIV Interventions (25 points).

To what extent does the applicant provide the required HIV interventions (prevention, care and support, confidential counseling and testing) in Lagos State? Does the applicant play a primary or only supporting role in providing these interventions? To what extent has the applicant worked with other organizations that provide HIV services in Lagos State? Does the applicant demonstrate knowledge of the cultural and political realities in Nigeria?

3. Personnel (20 points).

How well-qualified are the key staff (both management and technical) to carry out their proposed responsibilities, including by possessing local-language skills. Does the applicant describe a recruiting plan for positions not currently filled?

4. Understanding of the Need for Interventions (15 points).

Does the applicant demonstrate an understanding of the proposed target population (i.e., demographics, HIV/AIDS or STD prevalence, risk factors)? How well does the applicant describe existing HIV interventions?

5. Administrative and Accounting/Evaluation Plan (10 points).

Is the plan to measure impact of interventions, and the manner in which they will be provided, adequate? Is the plan to manage the resources of this program and monitor and audit expenditures adequate?

6. Budget (Reviewed, but not scored).

Is the budget itemized, well-justified and consistent with the five-year strategy and goals of the President's Emergency Plan and Emergency Plan activities in Nigeria?

V.2. Review and Selection Process

The HHS/CDC Procurement and Grants Office (PGO) staff will review applications for completeness, and the HHS Global AIDS program will review them for responsiveness. Incomplete applications and applications that are non-responsive to the eligibility criteria will not advance through the review process. Applicants will receive notification that their application did not meet submission requirements.

An objective review panel will evaluate complete and responsive applications according to the criteria listed in the “V.1. Criteria” section above. All persons who serve on the panel will be external to the U.S. Government Country Program Office. The panel may include both Federal and non-Federal participants.

In addition, the following factors could affect the funding decision:

While U.S.-based organizations are eligible to apply, we will give preference to existing national/Nigerian organizations. It is possible for one organization to apply as lead grantee with a plan that includes partnering with other organizations, preferably local. Although matching funds are not required, preference will go to organizations that can leverage additional funds to contribute to program goals.

Applications will be funded in order by score and rank determined by the review panel. HHS/CDC will provide justification for any decision to fund out of rank order. No award will be made without the concurrence of the U.S. Embassy Abuja and the CDC representative in Nigeria.

V.3. Anticipated Announcement and Award Date

September 23, 2005.

VI. Award Administration Information Award Notices

VI.1. Award Notices

Successful applicants will receive a Notice of Award (NoA) from the HHS/CDC Procurement and Grants Office. The NoA shall be the only binding, authorizing document between the recipient and HHS/CDC. An authorized Grants Management Officer will sign the NoA, and mail it to the recipient fiscal officer identified in the application.

Unsuccessful applicants will receive notification of the results of the application review by mail.

VI.2. Administrative and National Policy Requirements

45 CFR part 74 and part 92.

For more information on the Code of Federal Regulations, see the National Archives and Records Administration at the following Internet address: http://www.access.gpo.gov/nara/cfr/cfr-table-search.html.

• AR-4 HIV/AIDS Confidentiality Provisions.

• AR-5 HIV Program Review Panel Requirements.

• AR-6 Patient Care.

• AR-8 Public Health System Reporting Requirements.

• AR-10 Smoke-Free Workplace Requirements.

• AR-14 Accounting System Requirements.

• AR-15 Proof of Non-Profit Status.

• AR-21 Small, Minority, and Women-Owned Business.

• AR-23 States and Faith-Based Organizations.

Applicants can find additional information on these requirements on the HHS/CDC Web site at the following Internet address: http://www.cdc.gov/od/pgo/funding/ARs.htm.

You need to include an additional Certifications form from the PHS5161-1 application in the Grants.gov electronic submission only. Please refer to http://www.cdc.gov/od/pgo/funding/PHS5161-1-Certificates.pdf. Once you have filled out the form, please attach it to the Grants.gov submission as Other Attachment Forms.

VI.3. Reporting Requirements

You must provide HHS/CDC with an original, plus two hard copies, of the following reports:

1. Interim progress report, no less than 90 days before the end of the budget period. The progress report will serve as your non-competing continuation application, and must contain the following elements:

a. Current Budget Period Activities Objectives.

b. Current Budget Period Financial Progress.

c. New Budget Period Program Proposed Activity Objectives.

d. Budget.

e. Additional Requested Information.

f. Measures of Effectiveness, including progress against the numerical goals of the President's Emergency Plan for AIDS Relief for Nigeria.

2. Financial status report, no more than 90 days after the end of the budget period.

3. Final financial and performance reports, no more than 90 days after the end of the project period.

4. Annual progress report, due no more than 60 days after the end of the budget period. Reports should include progress against the numerical goals of the President's Emergency Plan for AIDS Relief for Nigeria.

Recipients must mail these reports to the Grants Management or Contract Specialist listed in the “Agency Contacts” section of this announcement.

VII. Agency Contacts

We encourage inquiries concerning this announcement. For general questions, contact: Technical Information Management Section, CDC Procurement and Grants Office, U.S. Department of Health and Human Services, 2920 Brandywine Road, Atlanta, GA 30341, Telephone: (770) 488-2700.

For program technical assistance, contact: Joseph Nnorom, MD, MPH, GAP, Nigeria Country Team, NCHSTP, HHS/CDC, Address: HHS/CDC, U.S. Embassy, No. 9 Mambila Street (off Aso Drive), Maitama District, Abuja, Nigeria, Telephone: (234) 9-234 0783; (234) 9-670 0798, E-mail: JNnorom@cdc.gov.

For financial, grants management, or budget assistance, contact: Diane Flournoy, Grants Management Specialist, CDC Procurement and Grants Office, U.S. Department of Health and Human Services, 2920 Brandywine Road, Atlanta, GA 30341, Telephone: (770) 488-2072, E-mail: DFlournoy@cdc.gov.

VIII. Other Information

Applicants can find this and other HHS funding opportunity announcements on the HHS/CDC Web site, Internet address: http://www.cdc.gov (click on “Funding” then “Grants and Cooperative Agreements”), and on the Web site of the HHS Office of Global Health Affairs, Internet address: http://www.globalhealth.gov.

Dated: August 12, 2005.
William P. Nichols,
Director, Procurement and Grants Office, Centers for Disease Control and Prevention, U.S. Department of Health and Human Services.

[FR Doc. 05-16429 Filed 8-18-05; 8:45 am]

BILLING CODE 4163-18-P